DEPARTMENT OF HOMELAND SECURITY

Federal Emergency Management Agency

44 CFR Part 67

[Docket No. FEMA-D-7560]

Proposed Flood Elevation Determinations

AGENCY: Federal Emergency Management Agency, Emergency Preparedness and Response Directorate, Department of Homeland Security.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Mary Jean Pajak, Federal Emergency Management Agency, 500 C Street SW., Washington, DC 20472, (202) 646-2831.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground *Elevation in feet (NGVD) • Elevation in feet (NAVD): Existing | #Depth in feet above ground *Elevation in feet (NGVD) • Elevation in feet (NAVD): Modified | Communities affected
NORTH CAROLINA
Bladen County (Unincorporated Areas)
Lateral 7 Creek | At the confluence with Bryant Swamp | None | •105 | Town of Bladenboro, Bladen County (Unincorporated Areas)
| Approximately 1,700 feet upstream of Poplar Street | None | •114
Barefoot Swamp | At the confluence with Crawley Swamp | None | •104 | Bladen County (Unincorporated Areas)
| Approximately 0.7 mile upstream of Highway 41 | None | 116
Big Foot Marsh | At the confluence with Brown Marsh Swamp | None | •71 | Town of Clarkton, Bladen County (Unincorporated Areas)
| Approximately 100 feet downstream of Business 701 | None | •78
Black Swamp | At the Bladen-Robeson County boundary | None | •108 | Bladen County (Unincorporated Areas)
| Approximately 1.9 miles upstream of Highway 131 | None | •123
Brown Marsh Swamp | Approximately 1,500 feet upstream of Red Hill Road | None | •70 | Bladen County (Unincorporated Areas)
| Approximately 0.9 mile upstream of Highway 701 | None | •86
Bryant Swamp | At the Bladen-Robeson County boundary | None | •92 | Town of Bladenboro, Bladen County (Unincorporated Areas)
| Approximately 0.25 mile upstream of Highway 211 Bypass | None | •107
Crawley Swamp | At the Bladen-Robeson County boundary | None | •100 | Bladen County (Unincorporated Areas)
| Approximately 1.0 mile downstream from State Route 410 | None | •108
Crooked Bay | At the Bladen-Robeson County boundary | None | •109 | Bladen County (Unincorporated Areas)
| Approximately 1,200 feet downstream from Tar-heel Ferry Road | None | •113
Doubles Branch | Approximately 200 feet downstream of Burney Ford Road | None | •81 | Bladen County (Unincorporated Areas)
| Approximately 1.2 miles upstream of Burney Ford Road | None | •89
Elkton Marsh | At the confluence with Brown Marsh Swamp | None | •87 | Bladen County (Unincorporated Areas)
| Approximately 600 feet downstream of Burney Ford Road | None | •100
Horsepen Branch | Approximately 1,500 feet downstream from the confluence of Spring Branch | None | •87 | Bladen County (Unincorporated Areas)
| Approximately 0.5 mile upstream of Highway 410 | None | •100
Middle Swamp | At the confluence with Elkton Marsh | None | •78 | Bladen County (Unincorporated Areas)
| Approximately 1.0 mile upstream of Porterville School Road | None | •96
Rattlesnake Creek | At the confluence of Spring Branch | None | •91 | Bladen County (Unincorporated Areas)
| At the Bladen-Columbus County boundary | None | •96
Reedy Creek | At the confluence with Black Swamp | None | •118 | Bladen County (Unincorporated Areas)
| Approximately 1.1 miles upstream of Highway 87 | None | •140
Slender Branch | At the confluence with Horsepen Branch | None | •93 | Bladen County (Unincorporated Areas)
| Approximately 1.0 mile upstream of the confluence with Horsepen Branch | None | •100
Spring Branch | At the confluence with Horsepen Branch | None | •89 | Bladen County (Unincorporated Areas)
| Approximately 4,700 feet upstream of State Route 242 | None | •104
Wateree Creek | At the confluence of Bryant Swamp | None | •101 |
| Approximately 200 feet upstream of 211 Bypass | None | •115 | Town of Bladenboro, Bladen County (Unincorporated Areas)
Big Swamp | Approximately 1.8 miles upstream of the confluence of Bryant Swamp | None | •99 | Bladen County (Unincorporated Areas)
| At the confluence with Big Marsh Swamp | None | •122
Galberry Swamp | At the confluence with Big Marsh Swamp | None | •122 | Bladen County (Unincorporated Areas)
| At the Bladen-Cumberland County boundary | None | •135
Lumber River | At the Bladen-Robeson-Columbus County boundary | None | •89 | Bladen County (Unincorporated Areas)
| Approximately 1.8 miles upstream of the confluence of Bryant Swamp and Big Swamp | None | •99
Bladen County (Unincorporated Areas)
Maps available for inspection at the Bladen County Courthouse, 106 East Broad Street, Room 107, Elizabethtown, North Carolina.
Send comments to Mr. Gregory Martin, Bladen County Manager, P.O. Box 1048, 106 East Broad Street, Room 105, Elizabethtown, North Carolina 28337.
Town of Bladenboro
Maps available for inspection at the Bladenboro Town Hall, 305 South Main Street, Bladenboro, North Carolina.
Send comments to the Honorable Livingston Lewis, Mayor of the Town of Bladenboro, P.O. Box 455, 3055 South Main Street, Bladenboro, North Carolina 28320.
Town of Clarkton
Maps available for inspection at the Clarkton Town Hall, 81 North Elm Street, Clarkton, North Carolina.
Send comments to the Honorable Robert C. Clark, Mayor of the Town of Clarkton, P.O. Box 307, 81 North Elm Street, Clarkton, North Carolina 28433.
NORTH CAROLINA
Halifax County (Unincorporated Areas)
Bear Swamp | Approximately 500 feet upstream of the confluence with Little Fishing Creek | •160 | •161 | Halifax County (Unincorporated Areas)
| Approximately 3.4 miles upstream of Airlie Road | None | •214
Beaverdam Swamp | At the confluence with Marsh Swamp | •81 | •82 | Halifax County (Unincorporated Areas)
| Approximately 1.4 miles upstream of I-95 | None | •132
Beaverdam Swamp Tributary | At the confluence with Beaverdam Swamp | None | •106 | Halifax County (Unincorporated Areas)
| Approximately 1.5 miles upstream of Beaverdam Road | None | •120
Beech Swamp | At the confluence with Fishing Creek | None | •62 | Halifax County (Unincorporated Areas), Town of Enfield
| Approximately 0.5 mile upstream of the confluence of Beech Swamp Tributary 1 | None | •77
Beech Swamp Tributary 1 | At the confluence with Beech Swamp | None | •74 | Halifax County (Unincorporated Areas)
| Approximately 700 feet upstream of Thirteen Bridges Road | None | •103
Beech Swamp Tributary 2 | At the confluence with Beech Swamp Tributary 1 | None | •77 | Halifax County (Unincorporated Areas)
| Approximately 0.5 mile upstream of Loop Road | None | •93
Beech Swamp Tributary 3 | Approximately 0.5 mile upstream of the confluence with Beech Swamp | •80 | •81 | Halifax County (Unincorporated Areas), Town of Enfield
| Approximately 1.4 miles upstream of the confluence with Beech Swamp | None | •97
Bens Creek | At the confluence with Little Fishing Creek | None | •186 | Halifax County (Unincorporated Areas)
| At the Halifax-Warren County boundary | None | •188
Breeches Swamp | At the confluence with Jacket Swamp | None | •95 | Halifax County (Unincorporated Areas)
| Approximately 0.8 mile upstream of Ringwood Road | None | •107
Burnt Coat Swamp | Approximately 0.5 mile downstream of Justice Branch Road | •80 | •81 | Halifax County (Unincorporated Areas), Town of Enfield
| Approximately 2.0 miles upstream of the confluence of Jacket Swamp | None | •102
Butterwood Creek | At the confluence with Bear Swamp | None | •176 | Halifax County (Unincorporated Areas)
| Approximately 1.3 miles upstream of Cold Mine School Road | None | •267
Deep Creek (Downstream) | At the Halifax-Edgecombe County boundary | None | •61 | Halifax County (Unincorporated Areas), Town of Scotland Neck
| Approximately 0.5 mile downstream of U.S. Highway 258 | None | •76
Deep Creek (Upstream) | Approximately 1,000 feet upstream of confluence with Deep Creek Tributary | None | •86 | Halifax County (Unincorporated Areas)
| Approximately 2.3 miles upstream of Highway 125/903 | None | •101
Deep Creek Tributary | At confluence with Deep Creek | None | •86 | Halifax County (Unincorporated Areas)
| Approximately 1.5 miles upstream of Thirteen Bridges Road | None | •106
Deep Creek Tributary 5 | At the confluence with Deep Creek | None | •62 | Halifax County (Unincorporated Areas), Town of Hobgood
| Approximately 0.5 mile upstream of the confluence with Deep Creek Tributary 6 | None | •77
Deep Creek Tributary 6 | At the confluence with Deep Creek Tributary 5 | None | • 76 | Halifax County (Unincorporated Areas)
| Approximately 0.5 mile upstream of the confluence with Deep Creek Tributary 5 | None | •79
Deep Creek Tributary 7 | At the confluence with Deep Creek | None | •67 | Halifax County (Unincorporated Areas)
| Approximately 2.1 miles upstream of the confluence with Deep Creek | None | •77
Fishing Creek (Upstream) | Approximately 50 feet downstream of Ward Road | None | •129 | Halifax County (Unincorporated Areas)
| At the Halifax-Warren County boundary | None | •165
Fishing Creek (Downstream) | At the Halifax-Edgecombe County boundary | None | •60 | Halifax County (Unincorporated Areas)
| Approximately 200 feet downstream of 301 | None | •95
Fishing Creek Tributary 4 | At the confluence with Fishing Creek | None | •80 | Halifax County (Unincorporated Areas)
| Approximately 500 feet upstream of Thirteen Bridges Road | None | •101
Fishing Creek Tributary 5 | At the confluence of Fishing Creek | None | •90 | Halifax County (Unincorporated Areas), Town of Enfield
| Approximately 0.7 mile upstream of South Dennis Street | None | •102
Jacket Swamp | At the confluence with Burnt Coat Swamp | None | •90 | Halifax County (Unincorporated Areas)
| Approximately 0.8 mile upstream of I-95 | None | •115
Little Fishing Creek | Approximately 0.3 mile upstream of confluence with Bear Swamp | None | •161 | Halifax County (Unincorporated Areas)
| At the Halifax-Warren County boundary | None | •186
Little Fishing Creek Tributary 1 | At the confluence with Little Fishing Creek | None | •165 | Halifax County (Unincorporated Areas)
| Approximately 0.4 mile upstream of confluence of Little Fishing Creek Tributary 3 | None | •227
Little Fishing Creek Tributary 2 | At the confluence with Little Fishing Creek Tributary 1 | None | •200 | Halifax County (Unincorporated Areas)
| At the Halifax-Warren County boundary | None | •240
Little Fishing Creek Tributary 3 | At the confluence with Little Fishing Creek Tributary 1 | None | •216 | Halifax County (Unincorporated Areas)
| Approximately 400 feet upstream of Highway 561 | None | •238
Little Fishing Creek Tributary 4 | At the confluence with Little Fishing Creek | None | •175 | Halifax County (Unincorporated Areas)
| At the Halifax-Warren County boundary | None | •188
Little Fishing Creek Tributary 5 | At the confluence with Little Fishing Creek Tributary 4 | None | •175 | Halifax County (Unincorporated Areas)
| Approximately 0.7 mile upstream of the confluence of Little Fishing Creek Tributary 4 | None | •192
Little Fishing Creek Tributary 6 | At the confluence with Little Fishing Creek | None | •178 | Halifax County (Unincorporated Areas)
| Approximately 1.5 miles upstream of the confluence with Little Fishing Creek | None | •205
Little Fishing Creek Tributary 7 | At the confluence with Little Fishing Creek | None | •181 | Halifax County (Unincorporated Areas)
| Approximately 0.9 mile upstream of Spruills Bridge Road | None | •200
Marsh Swamp | At the downstream side of Aurelian Springs Road | None | •129 | Halifax County (Unincorporated Areas)
| Approximately 0.7 mile upstream of Aurelian Springs Road | None | •130
Marsh Swamp Tributary 1 | Approximately 0.2 mile upstream of the confluence with Marsh Swamp | None | •85 | Halifax County (Unincorporated Areas)
| Approximately 0.2 mile downstream of Justice Branch Road | None | •99
Marsh Swamp Tributary 2 | Approximately 1,500 feet upstream of the confluence with Marsh Swamp | None | •92 | Halifax County (Unincorporated Areas)
| Approximately 3.5 miles upstream of the confluence with Marsh Swamp | None | •96
Porter Creek | At the confluence with Little Fishing Creek | None | •166 | Halifax County (Unincorporated Areas)
| At the Halifax-Warren County boundary | None | •226
Reedy Creek | At the confluence with Little Fishing Creek | None | •180 | Halifax County (Unincorporated Areas)
| At the Halifax-Warren County boundary | None | •180
Rocky Swamp | Approximately 800 feet downstream of Highway 481 | •108 | •109 | Halifax County (Unincorporated Areas)
| Approximately 1.0 mile upstream of Sledge Road | None | •194
Halifax County Unincorporated Areas
Maps available for inspection at the Halifax County Planning Office, Public Works Building, Room 102, 26 North King Street, Halifax, North Carolina.
Send comments to Mr. Matthew Delk, Halifax County Manager, P.O. Box 38, Halifax, North Carolina 27839.
Town of Enfield
Maps available for inspection at the Enfield Town Hall, 105 Northwest Railroad Street, Enfield, North Carolina.
Send comments to The Honorable Edward Jones, Mayor of the Town of Enfield, P.O. Box 699, Enfield, North Carolina 27823.
Town of Hobgood
Maps available for inspection at the Hobgood Town Hall, 207 West Commerce Street, Hobgood, North Carolina.
Send comments to The Honorable Tim Purvis, Mayor of the Town of Hobgood, P.O. Box 217, Hobgood, North Carolina 27843.
Town of Scotland Neck
Maps available for inspection at the Scotland Neck Town Hall, 1310 Main Street, Scotland Neck, North Carolina.
Send comments to The Honorable Robert Partin, Mayor of the Town of Scotland Neck, P.O. Box 537, Scotland Neck, North Carolina 27874.
NORTH CAROLINA
Unincorporated Areas of Warren County
Bens Creek | At the downstream county boundary | None | •187 | Warren County (Unincorporated Areas).
| Approximately 850 feet upstream of Skinner Road | None | •265
Big Branch | At the confluence with Little Fishing Creek and Walkers Creek. | None | •240 | Warren County (Unincorporated Areas).
| Approximately 1.1 miles upstream of the confluence with Little Fishing Creek and Walkers Creek | None | •250
Bobs Branch | At the confluence with Fishing Creek | None | •176 | Warren County (Unincorporated Areas).
| Approximately 0.6 mile upstream of the confluence with Fishing Creek | None | •180
Bridle Creek | At the confluence with Fishing Creek | None | •238 | •Warren County (Unincorporated Areas).
| Approximately 3.2 miles upstream of the confluence with Fishing Creek | None | •304
Buffalo Branch | At the confluence with Shocco Creek | None | •254 | Warren County (Unincorporated Areas).
| Approximately 1.5 miles upstream of the confluence with Shocco Creek | None | •284
Buffalo Creek | At the confluence with Fishing Creek | None | •192 | Warren County (Unincorporated Areas).
| Approximately 1.2 miles upstream of Davis Bugg Road | None | •216
Cabin Branch | At the confluence with Shocco Creek | None | •223 | Warren County (Unincorporated Areas).
| Approximately 1.2 miles upstream of confluence with Shocco Creek | None | •242
Dowtins Creek | At the confluence with Walkers Creek | None | •241 | Warren County (Unincorporated Areas).
| Approximately 1.7 miles upstream of the confluence with Walkers Creek | None | •261
Fishing Creek | At the downstream county boundary | None | •165 | Warren County (Unincorporated Areas).
| At the upstream county boundary | None | •345
Gum Pond Branch | At the confluence with Fishing Creek | None | •200 | Warren County (Unincorporated Areas).
| Approximately 0.8 mile upstream of the confluence with Fishing Creek | None | •208
Gunters Creek | At the confluence with Fishing Creek | None | •181 | Warren County (Unincorporated Areas).
| Approximately 150 feet downstream of Tutelo Road | None | •198
Hogpen Branch | At the confluence with Fishing Creek | None | •176 | Warren County (Unincorporated Areas).
| Approximately 1.2 miles upstream of the confluence with Fishing Creek | None | •190
Horse Creek | At the confluence with Fishing Creek | None | •251 | Warren County (Unincorporated Areas).
| Approximately 0.3 mile upstream of the confluence with Fishing Creek | None | •253
Horsepen Branch | At the confluence with Shocco Creek | None | •242 | Warren County (Unincorporated Areas).
| Approximately 1.2 miles upstream of the confluence with Shocco Creek | None | •258
Lees Branch | At the confluence with Shocco Creek | None | •284 | Warren County (Unincorporated Areas).
| Approximately 630 feet upstream of Pinnel Road | None | •324
Little Fishing Creek | Approximately 300 feet downstream of the confluence of Bens Creek | None | •185 | Warren County (Unincorporated Areas).
| At the confluence of Big Branch and Walkers Creek | None | •240
Little Fishing Creek Tributary 2 | At the downstream county boundary | None | •241 | Warren County (Unincorporated Areas).
| Approximately 0.3 mile upstream of the county boundary | None | •246
Little Fishing Creek Tributary 4 | At the downstream county boundary | None | •190 | Warren County (Unincorporated Areas).
| Approximately 930 feet upstream of Long School Road | None | •244
Little Shocco Creek | At the confluence with Shocco Creek | None | •206 | Warren County (Unincorporated Areas)
| Approximately 2.2 miles upstream of Rod Alston Road | None | 258
Long Branch | At the confluence with Fishing Creek | None | •192 | Warren County (Unincorporated Areas)
| Approximately 0.4 mile upstream of Otis Clark Road | None | •217
Maple Branch | At the confluence with Fishing Creek | None | •168 | Warren County (Unincorporated Areas)
| Approximately 0.6 mile upstream of Maple Road | None | •206
Matthews Creek | At the confluence with Fishing Creek | None | •291 | Warren County (Unincorporated Areas)
| Approximately 1.7 miles upstream of Manson Axtell Road | None | •335
Mill Branch | At the confluence with Fishing Creek | None | •207 | Warren County (Unincorporated Areas)
| Approximately 800 feet upstream of Gum Pond Road | None | •213
Owens Creek | At the confluence with Fishing Creek | None | •268 | Warren County (Unincorporated Areas)
| Approximately 2.3 miles upstream of Ridgeway Road | None | •358
Phoebes Creek | At the confluence with Fishing Creek | None | •264 | Warren County (Unincorporated Areas)
| Approximately 400 feet downstream of Martin Luther King Boulevard | None | •310
Porter Creek | At the county boundary | None | •228 | Warren County (Unincorporated Areas)
| Approximately 0.3 mile upstream of the county boundary | None | •232
Possumquarter Creek | At the confluence with Fishing Creek | None | •234 | Warren County (Unincorporated Areas)
| Approximately 2.0 miles upstream of Baltimore Church Road | None | •258
Reedy Branch | At the confluence with Fishing Creek | None | •187 | Warren County (Unincorporated Areas)
| Approximately 0.9 mile upstream of the confluence with Fishing Creek | None | •196
Reedy Creek | Approximately 100 feet upstream of the county boundary | None | •179 | Warren County (Unincorporated Areas)
| Approximately 0.5 mile upstream of Airport Road | None | •367
Richneck Creek | At the confluence with Fishing Creek | None | •234 | Warren County (Unincorporated Areas)
| Approximately 150 feet downstream of Limer Town Road | None | •277
Richneck Creek Tributary 1 | At the confluence with Richneck Creek | None | •249 | Warren County (Unincorporated Areas)
| Approximately 1.2 miles upstream of the confluence with Richneck Creek | None | •283
Sandy Creek | At the downstream county boundary | None | •280 | Warren County (Unincorporated Areas)
| At the upstream county boundary | None | •298
Shocco Creek | At the confluence with Fishing Creek | None | •210 | Warren County (Unincorporated Areas)
| Approximately 2.7 miles upstream of Shepard Road | None | •232
Shocco Creek Tributary 1 | At the confluence with Shocco Creek | None | •210 | Warren County (Unincorporated Areas)
| Approximately 1.3 miles upstream of the confluence with Shocco Creek | None | •232
Walkers Creek | At the confluence with Little Fishing Creek and Big Branch | None | •240 | Warren County (Unincorporated Areas)
| Approximately 700 feet upstream of Airport Road | None | •278
Walkers Creek Tributary | At the confluence with Walkers Creek | None | •251 | Warren County (Unincorporated Areas)
| Approximately 0.7 mile upstream of the confluence with Walkers Creek | None | •267
Warren County (Unincorporated Areas)
Maps available for inspection at the Warren County Planning and Zoning Office, 720 West Ridgeway Street, Warrenton, North Carolina.
Send comments to Ms. Loria Williams, Warren County Manager, 105 South Front Street, Warrenton, North Carolina 27589.

(Catalog of Federal Domestic Assistance No. 83.100, “Flood Insurance.”)
Dated: April 23, 2003.
Anthony S. Lowe,
Mitigation Division Director, Emergency Preparedness and Response Directorate.

[FR Doc. 03-10489 Filed 4-28-03; 8:45 am]

BILLING CODE 6718-04-P